DEPARTMENT OF THE INTERIOR

Performance Review Board Appointments

AGENCY: Department of the Interior.

ACTION: Notice of Performance Review Board appointments.

SUMMARY: This notice provides the names of individuals who have been appointed to serve as members of the Department of the Interior Performance Review Board.

DATES: These appointments are effective upon publication in the Federal Register.

FOR FURTHER INFORMATION CONTACT: Sharl Grigsby, Director, Office of Human Resources, Office of the Secretary, Department of the Interior, 1849 C Street, NW., Washington, DC 20240, Telephone Number: (202) 208-6761.

The members of the Department of the Interior Performance Review Board are as follows:

Name: Archuleta, Deanna A., Baca, Sylvia V., Batten, Katharine M., Bean, Michael J., Beck, Richard T., Beckmann, Darryl H., Blanchard, Mary Josie, Brown, Robert E., Burzyk, Carla M., Cardinale, Richard T., Douglas, Nicholas, Farquhar, Edward P., Fearn, Milton L., Ferriter, Olivia B., Gonzales, Elena, Henderson, John C., Holly, Amy, Iudicello, Fay S., Jackson, Andrew J., Jacobson, Rachel L., Keable, Edward T., Laverdure, Donald E., Malam, Pamela R., Miller, Mary Jane A., More, Robert S., Nedd, Michael D., Nichols, James, Owens, Glenda Hudson, Payne, Grayford F., Perez, Benito A., Plummer, Leonard, Roberson, Edwin L, Russ, David P., Russell, Lisa L., Simpson, Jerry W., Skibine, George T.C., Smith, Michael R., Sonderman, Debra E., Taylor, Willie R., Thorsen, Kimberley A., Triebsch, George F., Velasco, Jan Ine M., Wainmann, Barbara W., Zippin, Jeffrey P.

Dated: October 8, 2009.
Sharlyn A. Grigsby,
Director, Office of Human Resources.

[FR Doc. E9-25624 Filed 10-26-09; 8:45 am]

BILLING CODE M